DEPARTMENT OF LABOR

Employment and Training Administration

[TA-W-41,716]

Motorola, Inc., Global Telecom Solutions Sector (GTSS), Cellular Infrastructure Group, Including Temporary Workers of Adecco, North American, LLC, Fort Worth, TX; Amended Certification Regarding Eligibility To Apply for Worker Adjustment Assistance

In accordance with section 223 of the Trade Act of 1974 (19 U.S.C. 2273) the Department of Labor issued a Certification of Eligibility to Apply for Worker Adjustment Assistance on September 30, 2002, applicable to workers of Motorola, Inc., Global Telecom Solutions Sector (GTSS), Cellular Infrastructure Group, Fort Worth, Texas. The notice was published in the Federal Register on October 22, 2002 (67 FR 64923).

At the request of the petitioners, the Department reviewed the certification for workers of the subject firm. Information provided by the company shows that temporary workers of Adecco, North American, LLC worked at Motorola, Inc., Global Telecom Solutions Sector (GTSS), Cellular Infrastructure Group to produce base stations at the Fort Worth, Texas location of the subject firm.

Based on these findings, the Department is amending this certification to include temporary workers of Adecco, North American, LLC working at Motorola, Inc., Global Telecom Solutions Sector (GTSS), Cellular Infrastructure Group, Fort Worth, Texas.

The intent of the Department's certification is to include all workers of Motorola, Inc., Global Telecom Solutions Sector (GTSS), Cellular Infrastructure Group who were adversely affected by increased imports.

The amended notice applicable to TA-W-41,716 is hereby issued as follows:

“All workers of Motorola, Inc., Global Telecom Solutions Sector, Cellular Infrastructure Group, Fort Worth, Texas, engaged in employment related to the production of base stations, and temporary workers of Adecco, North American, LLC, Fort Worth, Texas, producing base stations at Motorola, Inc., Global Telecom Solutions Sector, Cellular Infrastructure Group, Fort Worth, Texas, who became totally or partially separated from employment on or after May 21, 2001, through September 30, 2004, are eligible to apply for adjustment assistance under Section 223 of the Trade Act of 1974.”

Signed at Washington, DC, this 9th day of April 2003.
Linda G. Poole,
Certifying Officer, Division of Trade Adjustment Assistance.

[FR Doc. 03-10131 Filed 4-23-03; 8:45 am]

BILLING CODE 4510-30-P